FEDERAL MINE SAFETY AND HEALTH REVIEW COMMISSION

Sunshine Act Notice

TIME AND DATE: 10:00 a.m., Thursday, February 13, 2020.

PLACE: The Richard V. Backley Hearing Room, Room 511N, 1331 Pennsylvania Avenue NW, Washington, DC 20004 (enter from F Street entrance).

STATUS: Open.

MATTERS TO BE CONSIDERED: The Commission will consider and act upon the following in open session: Secretary of Labor v. M-Class Mining, LLC, Docket No. LAKE 2018-0188-R. (Issues include whether the Judge erred in ruling that a section 103(k) safety order was validly issued and was not an abuse of discretion.)

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Phone Number for Listening to Meeting: 1 (866) 236-7472.

Passcode: 678-100.

Authority: 5 U.S.C. 552b.

Dated: January 21, 2020.
Sarah L. Stewart,
Deputy General Counsel.

[FR Doc. 2020-01168 Filed 1-21-20; 4:15 pm]

BILLING CODE 6735-01-P